DEPARTMENT OF HEALTH AND HUMAN SERVICES

Solicitation of Nominations for Membership To Serve on the Council on Graduate Medical Education

AGENCY: Health Resources and Services Administration (HRSA), Department of Health and Human Services (HHS).

ACTION: Request for nominations.

SUMMARY: HRSA is seeking nominations of qualified candidates for consideration for appointment as members of the Council on Graduate Medical Education (COGME). COGME provides advice and recommendations to the Secretary of HHS; the Senate Committee on Health, Education, Labor and Pensions; and the U.S. House of Representatives Committee on Energy and Commerce on matters concerning the supply and distribution of physicians in the United States, physician workforce trends, training issues, financing policies, and other matters of significance related to physician workforce and graduate medical education.

DATES: The agency will accept nominations on a continuous basis.

ADDRESSES: Nomination packages may be mailed to Advisory Council Operations, Bureau of Health Workforce, HRSA, Room 11W45C, 5600 Fishers Lane, Rockville, Maryland 20857 or submitted electronically by email to: BHWAdvisoryCouncilFRN@hrsa.gov.

FOR FURTHER INFORMATION CONTACT: Kennita R. Carter, MD, Designated Federal Official, COGME at 301-945-3505 or email at kcarter@hrsa.gov. A copy of the current COGME charter, membership, and reports can be obtained by accessing the COGME website https://www.hrsa.gov/advisorycommittees/bhpradvisory/cogme/.

SUPPLEMENTARY INFORMATION: COGME encourages entities providing graduate medical education to conduct activities to voluntarily achieve the recommendations of COGME; develops, publishes, and implements performance measures and longitudinal evaluations; and recommends appropriation levels for certain Public Health Service Act (PHSA) Title VII programs. Meetings take place twice a year.

Nominations: HRSA is requesting nominations for voting members of COGME to include representatives of practicing primary care physicians, national and specialty physician organizations, foreign medical graduates, medical student and house staff associations, schools of allopathic and osteopathic medicine, public and private teaching hospitals, and representatives of health insurers, business, and labor. Additionally, HRSA encourages nominations of medical students, residents, and/or fellows. Members receive appointments based on their competence, interest, and knowledge of the mission of the profession involved.

The Secretary of HHS will consider nominations of all qualified individuals within the areas of subject matter expertise noted above. In making such appointments, the Secretary shall ensure a broad geographic representation of members and a balance between urban and rural educational settings.

Professional organizations, employers, or colleagues may nominate one or more qualified persons for membership. Individuals selected for appointment to COGME will be invited to serve for 4 years. COGME members are appointed as special government employees and receive a stipend and reimbursement for per diem and travel expenses incurred for attending meetings and/or conducting other business on behalf of COGME, as authorized by section 5 U.S.C. 5703 for persons employed intermittently in government service.

To evaluate possible conflicts of interest, individuals selected for consideration for appointment will be required to provide detailed information regarding their financial holdings, consultancies, and research grants or contracts. The selected candidates must fill out the U.S. Office of Government Ethics (OGE) Confidential Financial Disclosure Report, OGE Form 450. Disclosure of this information is necessary to determine if the selected candidate is involved in any activity that may pose a potential conflict with their official duties as a member of the Committee.

A nomination package should include the following information for each nominee: (1) A letter of nomination from an employer, a colleague, or a professional organization stating the name, affiliation, and contact information for the nominee, the basis for the nomination (i.e., what specific attributes, perspectives, and/or skills does the individual possess that would benefit the workings of COGME), and the nominee's field(s) of expertise; (2) a letter of interest from the nominee stating the reasons they would like to serve on COGME; (3) a biographical sketch of the nominee, including a copy of his/her curriculum vitae and his/her contact information (address, daytime telephone number, and email address); and (4) the name, address, daytime telephone number, and email address where the person nominating the individual can be contacted.

HRSA will collect and retain nomination packages to create a pool of possible future COGME voting members. When a vacancy occurs, HRSA may review nomination packages from the appropriate category and may contact nominees at that time. Nominations should be updated and resubmitted every 4 years to continue to be considered for committee vacancies.

HHS strives to ensure a balance of the membership of COGME in terms of points of view presented and the committee's function and makes every effort to ensure the representation of views of women, all ethnic and racial groups, and people with disabilities on HHS Federal Advisory Committees. Therefore, we encourage nominations of qualified candidates from these groups and endeavor to make appointments to COGME without discrimination on the basis of age, race, ethnicity, gender, sexual orientation, disability, and cultural, religious, or socioeconomic status.

Authority: Section 762 of the PHSA (42 U.S.C. 294o), as amended. COGME is governed by provisions of the Federal Advisory Committee Act (FACA), as amended (5 U.S.C. Appendix 2), which sets forth standards for the formation and use of advisory committees and applies to the extent that the provisions of FACA do not conflict with the requirements of PHSA Section 762.

Amy P. McNulty,
Acting Director, Division of the Executive Secretariat.

[FR Doc. 2018-10129 Filed 5-11-18; 8:45 am]

BILLING CODE 4165-15-P